OFFICE OF PERSONNEL MANAGEMENT

[OMB Control No. 3206-0156]

Proposed Information Collection; Request for Comments on a Revised Information Collection; Standard Forms 2800 and 2800A

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a request for review of a revised information collection. This information collection, “Application for Death Benefits under the Civil Service Retirement System (CSRS)” (OMB Control No. 3206-0156; form SF 2800), is needed to collect information so that OPM can pay death benefits to the survivors of Federal employees and annuitants. “Documentation and Elections in Support of Application for Death Benefits When Deceased Was an Employee at the Time of Death” (OMB Control No. 3206-0156; form SF 2800A), is needed for deaths in service so that survivors can make the needed elections regarding military service.

Comments are particularly invited on whether this information is necessary for the proper performance of functions of the Office of Personnel Management, and whether it will have practical utility; whether our estimate of the public burden of this collection of information is accurate and based on valid assumptions and methodology; and ways in which we can minimize the burden of the collection of information on those who are to respond through the use of appropriate technological collection techniques or other forms of information technology.

Approximately 68,000 SF 2800's are processed annually. The completion time for this form is approximately 45 minutes. An annual burden of 51,000 hours is estimated. Approximately 6,800 applicants will use SF 2800A annually. The completion time for this form is also approximately 45 minutes. An annual burden of 5,100 hours is estimated. The total burden is 56,100 hours.

For copies of this proposal, contact Margaret A. Miller by telephone at (202) 606-2699, by Fax (202) 418-3251, or by e-mail at Margaret.Miller@opm.gov. Please include a mailing address with your request.

DATES: Comments on this proposal should be received within 60 calendar days from the date of this publication.

ADDRESS: Send or deliver comments to: Ronald W. Melton, Deputy Assistant Director, Retirement Services Program, Center for Retirement and Insurance Services, U.S. Office of Personnel Management, 1900 E Street, NW., Room 3305, Washington, DC 20415-3500.

For Information Regarding Administrative Coordination Contact: Cyrus S. Benson, Team Leader, Publications Team, RIS Support Services/Support Group, U.S. Office of Personnel Management, 1900 E Street, NW., Room 4H28, Washington, DC 20415, (202) 606-0623.

Office of Personnel Management.
Howard Weizmann,
Deputy Director.

[FR Doc. E8-28918 Filed 12-5-08; 8:45 am]

BILLING CODE 6325-38-P